DEPARTMENT OF TRANSPORTATION

Federal Highway Administration

[Docket No. FHWA-2016-0015]

Emergency Route Working Group—Notice of Public Meeting

AGENCY: Federal Highway Administration (FHWA); DOT.

ACTION: Notice of public meeting.

SUMMARY: This notice announces a meeting of the Emergency Route Working Group (ERWG). The Federal Advisory Committee Act requires that notice of such meetings be published in the Federal Register.

DATES: The public meeting will be held on Wednesday, May 10, 2017, from 8:30 a.m. to 5 p.m., e.t., and Thursday, May 11, 2017, from 8:30 a.m. to 1 p.m.

ADDRESSES: Both sessions of this public meeting will be held at U.S. Department of Transportation, 1200 New Jersey Ave., Conference Center, Washington, DC 20590.

Due to the limited amount of parking around DOT Headquarters, use of public transit is strongly advised. The DOT is served by the Navy Yard Metrorail Station (Green line). The closest exit to DOT Headquarters is the Navy Yard exit. Train and bus schedules are available at Metrorail's Web site at: http://www.wmata.com/rider_tools/tripplanner/tripplanner_form_solo.cfm.

FOR FURTHER INFORMATION CONTACT: Crystal Jones, FHWA Office of Freight Management and Operations, (202) 366-2976, or via email at Crystal.Jones@dot.gov or erwg@dot.gov. For legal questions, contact Seetha Srinivasan, FHWA Office of the Chief Counsel, (202) 366-4099 or via email at Seetha.Srinivasan@dot.gov. Office hours for FHWA are from 8:00 a.m. to 4:30 p.m., e.t., Monday through Friday, except Federal holidays.

SUPPLEMENTARY INFORMATION:

Electronic Access

An electronic copy of this notice may be downloaded from the from the Federal Register's home page at: http://www.archives.gov; the Government Publishing Office's database at: https://www.gpo.gov/fdsys/; or the specific docket page at: www.regulations.gov.

Background

Purpose of the Committee: Section 5502 of the Fixing America's Surface Transportation (FAST) Act (Pub. L. 114-94) requires DOT to establish an emergency route working group to determine best practices for expeditious State approval of special permits for vehicles involved in emergency response and recovery. Pursuant to the Federal Advisory Committee Act (FACA), FHWA's Office of Freight Management and Operations is announcing a public meeting of the Emergency Route Working Group (ERWG). The public meeting will be held on Wednesday, May 10, 2017, from 8:30 a.m. to 5p.m., e.t., and Thursday, May 11, 2017, from 8:30 a.m. to 1 p.m. These meetings are being conducted to develop recommendations for the DOT Secretary on issues and associated best practices to encourage expeditious State approval of special permits for vehicles involved in emergency response and recovery.

Tentative Agenda: The agenda will include a topical discussion on considerations for best practices; including whether:

(1) Impediments currently exist that prevent expeditious State approval of special permits for vehicles involved in emergency response and recovery;

(2) it is possible to pre-identify and establish emergency routes between States through which infrastructure repair materials could be delivered following a natural disaster or emergency;

(3) a State could pre-designate an emergency route identified under paragraph (2) as a certified emergency route if a motor vehicle that exceeds the otherwise applicable Federal and State truck size and weight limits may safely operate along such route during periods of declared emergency and recovery from such periods; and

(4) an online map could be created to identify each pre-designated emergency route under paragraph (3), including information on specific vehicle limitations, obligations, and notification requirements along that route.

Wednesday, May 10, 2017

• 8:30 a.m.-9 Opening Remarks

• 9-11:30 Recommendations and Advice (Utilities perspective)

• 11:30-1 p.m. Lunch

• 1-3:30 Recommendations and Advice (Federal perspective)

• 3:30 Break

• 3:30-4:30 Recommendations and Advice (State Department of Transportation and enforcement perspective)

• 4:30 p.m. Wrap-up and Adjournment for the day

Thursday, May 11, 2017:

• 8:30 a.m.-9 Opening Remarks

• 9:00-10:30 Recommendations and Advice (State Department of Transportation and enforcement perspective, continued from May 10)

• 10:00-12 p.m. ERWG Report to the DOT Secretary (Outline Discussion)

• 12:00-12:30 Outstanding Issues and topics for additional deliberation

• 12:30 p.m. Wrap-up and Adjournment

Public Participation: Both sessions of this meeting are open to the public. The Designated Federal Officer and the Chair of the Committee will conduct the meeting to facilitate the orderly conduct of business. If you would like to file a written statement with the Committee, you may do so either before or after the meeting by submitting an electronic copy of that statement to erwg@dot.gov or the specific docket page at: www.regulations.gov. If you would like to make oral statements regarding any of the items on the agenda, you should contact Crystal Jones at the phone number listed above or email your request to erwg@dot.gov. You must make your request for an oral statement at least 5 business days prior to the meeting. Reasonable provisions will be made to include any such presentation on the agenda. Public comment will be limited to 3 minutes per speaker, per topic.

Minutes: An electronic copy of the minutes from this meeting will be available for download within 60 days of the conclusion of the meeting at: http://ops.fhwa.dot.gov/fastact/erwg/index.htm.

Authority: Section 5502 of Pub. L. 114-94; 5 U.S.C. Appendix 2; 41 CFR 102-3.65; 49 CFR 1.85.

Issued on: April 17, 2017.
Walter C. Waidelich, Jr.,
Acting Deputy Administrator, Federal Highway Administration.

[FR Doc. 2017-08025 Filed 4-19-17; 8:45 am]

BILLING CODE 4910-22-P